NUCLEAR REGULATORY COMMISSION

[Docket Nos. STN 50-456, STN 50-457, STN 50-454, and STN 50-455; NRC-2010-0329]

Braidwood Station, Units 1 and 2 and Byron Station, Unit Nos. 1 and 2; Notice of Withdrawal of Application for Amendment to Facility Operating License

The U.S. Nuclear Regulatory Commission (the Commission) has granted the request of Exelon Generation Company, LLC (the licensee) to withdraw its March 26, 2009, application for proposed amendments to Facility Operating License Nos. NPF-72 and NPF-77 for Braidwood Station, Units 1 and 2, respectively, located in Will County, Illinois, and to Facility Operating License Nos. NPF-37 and NPF-66 for Byron Station, Unit Nos. 1 and 2, respectively, located in Ogle County, Illinois.

The proposed amendment would have revised the fire protection program to eliminate the requirement for the backup manual carbon dioxide fire suppression system in the upper cable spreading rooms.

The Commission had previously issued a Notice of Consideration of Issuance of Amendment published in the Federal Register on May 19, 2009 (74 FR 23445). However, by letter dated September 20, 2010, the licensee withdrew the proposed change.

For further details with respect to this action, see the application for amendment dated March 26, 2009, as supplemented by letters dated September 10, 2009, March 15, and May 27, 2010, and the licensee's letter dated September 20, 2010, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 13th day of October 2010.
For the Nuclear Regulatory Commission.
Marshall J. David,
Senior Project Manager, Plant Licensing Branch III-2, Division of Operating Reactor Licensing, Office of Nuclear Reactor Regulation.

[FR Doc. 2010-26394 Filed 10-19-10; 8:45 am]

BILLING CODE 7590-01-P